FEDERAL COMMUNICATIONS COMMISSION

47 CFR Part 69

[WC Docket No. 05-25; RM-10593; DA 15-382]

Comment Deadlines Further Extended in Special Access Proceeding

AGENCY: Federal Communications Commission.

ACTION: Proposed rule; extension of comment and reply comment deadlines.

SUMMARY: The Wireline Competition Bureau (Bureau) extends deadlines for the public to file comments and reply comments in response to the Special Access Further Notice of Proposed Rulemaking (Special Access FNPRM) until July 1, 2015 and July 22, 2015, respectively.

DATES: Comments are due on or before July 1, 2015, and reply comments are due on or before July 22, 2015.

ADDRESSES: You may submit comments on the Special Access FNPRM, identified by WC Docket No. 05-25, RM-10593, by any of the following methods:

• Electronic Filers: Federal Communication Commission's Electronic Comments Filing System (ECFS): http://fjallfoss.fcc.gov/ecfs2/. Follow the instructions for submitting comments.

• Paper Filers: All hand-delivered or messenger-delivered paper filings for the Commission's Secretary must be delivered to FCC Headquarters at 445 12th Street SW., Room TW-A325, Washington, DC 20554. The filing hours are 8:00 a.m. to 7:00 p.m. Eastern Time (ET). All hand deliveries must be held together with rubber bands or fasteners. Any envelopes and boxes must be disposed of before entering the building. Commercial overnight mail (other than U.S. Postal Service Express Mail and Priority Mail) must be sent to 9300 East Hampton Drive, Capitol Heights, MD 20743. U.S. Postal Service first-class, Express, and Priority mail must be addressed to 445 12th Street SW., Washington, DC 20554.

• People with Disabilities: To request materials in accessible formats for people with disabilities (braille, large print, electronic files, or audio format), send an email to fcc504@fcc.gov or call the Consumer & Governmental Affairs Bureau at 202-418-0530 (voice), 202-418-0432 (TTY).

FOR FURTHER INFORMATION CONTACT: Christopher Koves, Pricing Policy Division, Wireline Competition Bureau, (202) 418-1540 or Christopher.Koves@fcc.gov.

SUPPLEMENTARY INFORMATION: This is a summary of the Bureau's public notice, WC Docket No. 05-25, RM-10593, DA 15-382, released March 27, 2015. This document does not contain information collection(s) subject to the Paperwork Reduction Act of 1995 (PRA), Public Law 104-13. In addition, therefore, it does not contain any new or modified “information collection burden[s] for small business concerns with fewer than 25 employees,” pursuant to the Small Business Paperwork Relief Act of 2002. The complete text of this document is available for public inspection and copying from 8:00 a.m. to 4:30 p.m. ET Monday through Thursday or from 8:00 a.m. to 11:30 a.m. ET on Fridays in the FCC Reference Information Center, 445 12th Street SW., Room CY-A257, Washington, DC 20554. The complete text is also available on the Commission's Web site at http://wireless.fcc.gov, or by using the search function on the ECFS Web page at http://www.fcc.gov/cgb/ecfs/.

SUMMARY: On March 27, 2015, the Commission released a public notice extending the deadlines for filing comments and reply comments in response to Section IV.B of the Special Access FNPRM in the Commission's special access rulemaking proceeding until July 1, 2015 and July 22, 2015, respectively. On December 11, 2012, the Commission adopted an order requiring providers and purchasers of special access and certain entities providing “best efforts” service to submit data and information for a comprehensive evaluation of the special access market and, in Section IV.B of the accompanying Special Access FNPRM, sought comment on changes to its rules for special access services provided by incumbent local exchange carriers in price cap areas. The process for facilitating public access to the data consistent with the protective order released on October 1, 2014 is ongoing but the data is not yet available, and there is insufficient time for the public to access and review this information before filing comment and reply comments. The Bureau therefore extends the deadline for filing comments until July 1, 2015 and reply comments until July 22, 2015.

Federal Communications Commission.
Pamela Arluk,
Acting Chief, Pricing Policy Division, Wireline Competition Bureau.

[FR Doc. 2015-09772 Filed 4-24-15; 8:45 am]

BILLING CODE 6712-01-P